TENNESSEE VALLEY AUTHORITY

Sunshine Act Meetings

TIME AND DATE: 9 a.m. ET on February 14, 2024.

PLACE: James and Nellie Brinkley Center, 2001 Millennium Place, Johnson City, Tennessee.

STATUS: Open.

MATTERS TO BE CONSIDERED:

Meeting No. 24-01

The TVA Board of Directors will hold a public meeting on February 14, at the James and Nellie Brinkley Center, 2001 Millennium Place, Johnson City, Tennessee.

The meeting will be called to order at 9:00 a.m. ET to consider the agenda items listed below. TVA management will answer questions from the news media following the Board meeting.

On February 13, at the James and Nellie Brinkley Center, the public may comment on any agenda item or subject at a board-hosted public listening session which begins at 2:00 p.m. ET and will last until 4:00 p.m. Preregistration is required to address the Board.

Agenda

1. Approval of minutes of the November 9, 2023 Board Meeting

2. Report of the People and Governance Committee

A. FY 2024 Annual Goals

3. Report of the External Stakeholders and Regulation Committee

A. Federal Advisory Committee Charter Renewal

4. Report of the Finance, Rates, and Portfolio Committee

5. Report of the Audit, Risk, and Cybersecurity Committee

6. Report of the Operations and Nuclear Oversight Committee

7. Information Item

A. Committee Structure, Committee Assignments, Executive Compensation Task Force

8. Report from President and CEO

CONTACT PERSON FOR MORE INFORMATION: For more information: Please call Ashton Davies, TVA Media Relations at (865) 632-6000, Knoxville, Tennessee. Anyone who wishes to comment on any of the agenda in writing may send their comments to: TVA Board of Directors, Board Agenda Comments, 400 West Summit Hill Drive, Knoxville, Tennessee 37902.

Dated: February 7, 2024.
Edward C. Meade,
Agency Liaison.

[FR Doc. 2024-03115 Filed 2-9-24; 4:15 pm]

BILLING CODE 8120-08-P